NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 17, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Michael Miller, Director, Modern Records Programs (NWM), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, U.S. Air Force Base Commands (N1-342-98-1, 2 items, 2 temporary items). Construction and engineer project control records that were retired to the Washington National Records Center from the late 1960s through the mid 1990s. Records relate to construction, maintenance, and repair projects on military bases. Included are records on cleaning, painting, wiring, roofing, paving, housing, guard stations, lighting, air plane hangers, recreation centers, and communication facilities. Records will be retained for 50 years.

2. Department of Energy, Assistant Secretary for Fossil Energy (N1-434-01-5, 3 items, 2 temporary items). Electronic copies of documents created using electronic mail and word processing that relate to the transfer to private ownership of the Naval Petroleum Reserve #1 at Elk Hills, California. Recordkeeping copies of these files are proposed for permanent retention.

3. Department of Health and Human Services, National Institutes of Health (N1-443-01-1, 7 items, 7 temporary items). Records relating to technology transfer agreements executed by the agency. Included are agreements, related requests and other background papers, post execution correspondence, and electronic copies of records created using electronic mail and word processing.

4. Department of Housing and Urban Development, Office of Federal Housing Enterprise Oversight (N1-543-01-3, 2 items, 1 temporary item). Electronic copies of documents created using electronic mail and word processing relating to the Government Performance and Results Act. Recordkeeping copies of such records as strategic plans, annual performance plans, annual performance reports, and quarterly performance reports are proposed for permanent retention.

5. Department of the Interior, Office of the Secretary (N1-48-01-2, 7 items, 1 temporary item). Photographs lacking historical value, such as portraits of lower level officials and coverage of such activities as blood drives, awards ceremonies, and savings bond campaigns. Proposed for permanent retention are historically significant black-and-white and color negatives, contact sheets, prints, and slides and related textual and automated photographic assignment logs.

6. Department of Justice, Immigration and Naturalization Service (N1-85-01-1, 4 items, 1 temporary item). Electronic copies of records created using electronic mail and word processing that relate to agency mission and policies. Recordkeeping copies of these files and related indexes are proposed for permanent retention.

7. Department of Justice, Bureau of Prisons (N1-129-01-12, 7 items, 7 temporary items). Records of accumulated by Federal correctional facilities including inmate transfer receipts, master index cards, and monthly reports to the Federal Bureau of Investigation concerning the release of inmates who had been convicted of bank robbery. Also included are electronic copies of documents created using electronic mail and word processing.

8. Department of State, Bureau of Administration (N1-59-01-16, 2 items, 2 temporary items). Records of the Office of Overseas Schools relating to schools in specific geographic areas and related matters. Included are correspondence, reports, publications, and electronic copies of documents created using electronic mail and word processing. This schedule reduces the retention period for recordkeeping copies of these files which were previously approved for disposal.

9. Department of the Treasury, Bureau of the Public Debt (N1-53-01-7, 45 items, 45 temporary items). Division of Special Investment records pertaining primarily to the purchase and redemption of special purpose securities. Included is a database used to maintain information on the purchase of special purpose securities and the related inputs and outputs.

10. Federal Energy Regulatory Commission, Office of External Affairs (N1-138-00-7, 12 items, 5 temporary items). Records relating to public relations. Included are such records as publications background materials, correspondence with Members of Congress, and electronic copies of documents created using electronic mail and word processing. Proposed for permanent retention are recordkeeping copies of publications, employee newsletters, news releases, and photographs and video recordings relating to the agency's mission.

11. Library of Congress, Office of the Inspector General (N1-297-01-1, 6 items, 6 temporary). Audit case files, closed investigative files, allegation files, working papers pertaining to audits and investigations, and electronic and hard copy logs used to track the status of cases. Also included are electronic copies of records created using electronic mail and word processing.

12. National Archives and Records Administration, Office of Records Services—Washington, DC (N2-134-01-1, 1 item, 1 temporary item). Records of the Interstate Commerce Commission accumulated between 1910 and 1934 that pertain to investigations of new or joint common carrier rates, fares, charges, or classifications. These records were accessioned into the National Archives of the United States prior to the approval of a schedule submitted by the Commission which authorizes the destruction of this record series.

Dated: July 26, 2001.
Michael J. Kurtz,
Assistant Archivist for Record Services—Washington, DC.

[FR Doc. 01-19209 Filed 7-31-01; 8:45 am]

BILLING CODE 7515-01-P